DEPARTMENT OF COMMERCE

National Oceanic and Atmospheric Administration

National Integrated Drought Information System National Drought Forum

AGENCY: Climate Program Office (CPO), Office of Oceanic and Atmospheric Research (OAR), National Oceanic and Atmospheric Administration (NOAA), Department of Commerce (DOC).

ACTION: Notice of open meeting.

SUMMARY: The National Integrated Drought Information System (NIDIS) Program Office and the National Drought Resilience Partnership (NDRP) will host the 2nd National Drought Forum on July 30-31, 2019.

DATES: The Forum will be held Tuesday, July 30, 2019 from 9:00 a.m. EST to 4:30 p.m. EDT and Wednesday July 31, 2019 from 9:00 a.m. EST to 4:30 p.m. EDT. These times and the agenda topics are subject to change.

ADDRESSES: The meeting will be held at the United States Institute of Peace, 2301 Constitution Avenue NW, Washington, DC 20037.

FOR FURTHER INFORMATION CONTACT: Murielle Gamache-Morris, Secretariat for the National Drought Forum, David Skaggs Research Center, Room GD102, 325 Broadway, Boulder CO 80305. Email: murielle.gamache-morris@noaa.gov.

SUPPLEMENTARY INFORMATION: The National Integrated Drought Information System (NIDIS) was authorized by Congress in 2006 (Pub. L. 109-430) and reauthorized on March 6, 2014 and January 7, 2019 with a mandate to coordinate and integrate drought research, building upon existing federal, tribal, state, and local partnerships in support of creating a national drought early warning information system.

The National Drought Resilience Partnership (NDRP) is a partnership made up of Federal departments and agencies formed to improve Federal collaboration and promote long-term drought resilience nationwide.

Status: This meeting will be open to public participation. Individuals interested in attending should register at https://cpaess.ucar.edu/meetings/2019/2nd-national-drought-forum. Please refer to this web page for the most up-to-date meeting times and agenda. Seating at the meeting will be available on a first-come, first-served basis.

Special Accommodations: This meeting is accessible to people with disabilities. Requests for special accommodations may be directed no later than 5:00 p.m. on July 15, 2019, to Murielle Gamache-Morris, Secretariat for the National Drought Forum, David Skaggs Research Center, Room GD102, 325 Broadway, Boulder CO 80305; Email: murielle.gamache-morris@noaa.gov.

Matters To Be Considered: The meeting will include the following topics: (1) Lessons learned and progress towards U.S. drought readiness since the last Forum in 2012; (2) strengthening the state-federal relationship to realize greater collaboration and promote cooperative partnerships with U.S. businesses to address drought; (3) new information and opportunities for coordination that help move the Nation from a reactive to a proactive approach to drought risk management; and (4) action items that could improve U.S. drought resilience.

Dated: June 19, 2019.
David Holst,
Chief Financial Officer/Administrative Officer, Office of Oceanic and Atmospheric Research, National Oceanic and Atmospheric Administration.

[FR Doc. 2019-14459 Filed 7-5-19; 8:45 am]

BILLING CODE 3510-KD-P